DEPARTMENT OF THE INTERIOR

Office of Surface Mining Reclamation and Enforcement

[S1D1 SS08011000 SX064A000 189S180110; S2D2 SS08011000 SX064A000 18X501520]

Notice of a Public Meeting on the Western Energy Company's Rosebud Mine Area F Draft Environmental Impact Statement

AGENCY: Office of Surface Mining Reclamation and Enforcement, Department of the Interior.

ACTION: Notice of public meeting.

SUMMARY: We, the Office of Surface Mining Reclamation and Enforcement (OSMRE), are announcing the date, time, and location of the public meeting to be held on the Draft Environmental Impact Statement (EIS) for the Western Energy Company's Rosebud Mine Area F (Project) in southeastern Montana.

DATES: OSMRE and co-lead agency, Montana Department of Environmental Quality (DEQ), will hold a public meeting on the Draft EIS on February 13, 2018, between 3:00 p.m. and 7:00 p.m. at the Colstrip High School Auditorium at 5000 Pine Butte Drive, Colstrip, MT 59323.

FOR FURTHER INFORMATION CONTACT: Logan Sholar, OSMRE Project Coordinator; Telephone: 303-293-5036; Address: 1999 Broadway Street, Suite 3320, Denver, Colorado 80202-3050; email: lsholar@osmre.gov.

ADDRESSES: See the DATES section of this notice for the address at which OSMRE will hold the public meeting on the Draft EIS.

SUPPLEMENTARY INFORMATION: OSMRE published its notice of availability for the Draft EIS and the Project in the Federal Register on January 3, 2018 (83 FR 393), and the U.S. Environmental Protection Agency posted their notice of availability on January 5, 2018 (83 FR 678). If the DEQ approves the permit and a Federal mining plan for the Project is approved as proposed, at the current rate of production, the operational life of the Rosebud Mine would be extended by 8 years. Mining operations in the project area, which would commence after all permits and approvals have been secured and a reclamation and performance bond has been posted, would last 19 years. Western Energy estimates that 70.8 million tons of recoverable coal reserves exist in the project area and would be removed during the 19-year operations period.

The primary purpose of the meeting is to obtain input on the Project and Draft EIS. Therefore, we encourage you to limit your testimony to the merits of the Project and Draft EIS.

The public meeting will be conducted in an open-house style format and will include informational displays and areas where attendees may record and submit written comments. At 5:00 p.m., DEQ and OSMRE staff will explain the EIS public involvement process and provide a brief description of the proposed project. Following this introduction, attendees will have the opportunity to provide oral testimony until 6:15 p.m. Oral testimony will be limited to three minutes per person. A transcriber will record the oral comments for the project record. Interpreters will be available upon request.

If you are a disabled individual who needs reasonable accommodations to attend the public meeting, please contact the person listed under FOR FURTHER INFORMATION CONTACT at least one week before the meeting.

Dated: January 10, 2018.
David Berry,
Regional Director, Western Region.

[FR Doc. 2018-01883 Filed 1-30-18; 8:45 am]

BILLING CODE 4310-05-P